DEPARTMENT OF DEFENSE

Department of the Army

[Docket ID USA-2022-HQ-0013]

Submission for OMB Review; Comment Request

AGENCY: U.S. Army Corps of Engineers, Department of Defense (DoD).

ACTION: 30-Day information collection notice.

SUMMARY: The DoD has submitted to the Office of Management and Budget (OMB) for clearance the following proposal for collection of information under the provisions of the Paperwork Reduction Act.

DATES: Consideration will be given to all comments received by March 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: U.S. Army Corps of Engineers Navigation Improvement Surveys; OMB Control Number 0710-NAVS.

Type of Request: New collection.

Number of Respondents: 1,000.

Responses per Respondent: 1.

Annual Responses: 1,000.

Average Burden per Response: 40 minutes.

Annual Burden Hours: 667.

Needs and Uses: USACE operates, maintains, and improves much of the nation's navigation infrastructure. This includes inland navigation infrastructure and coastal infrastructure. USACE conducts periodic navigation improvement studies to ensure continuity of operations now and into the future. To fully evaluate these studies, USACE needs data on the use of the Nation's waterways, the extent of navigation inefficiencies, and anticipated changes in vessel operations and sizes. This information is used in planning studies to formulate and evaluate the projected benefits and impacts of alternatives. Navigation improvement studies conducted by USACE typically use empirical data provided by the USACE Waterborne Commerce Statistics Center; however, the impacts on waterway traffic of alternative capital and operations and maintenance investment strategies collected by these surveys will complement the empirical data.

Affected Public: Business or other for-profit.

Frequency: As Required.

Respondent's Obligation: Voluntary.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: February 7, 2023.
Aaron T. Siegel,
Alternate OSD Federal Register Liaison Officer, Department of Defense.

[FR Doc. 2023-02884 Filed 2-9-23; 8:45 am]

BILLING CODE 5001-06-P